DEPARTMENT OF JUSTICE

Federal Bureau of Investigation

Agency Information Collection Activities: Proposed Collection; Comments Requested

ACTION: 60-day notice of information collection under review: National Sex Offender Registry.

The Department of Justice (DOJ), Federal Bureau of Investigation, has submitted the following information collection request to the Office of Management and Budget (OMB) for review and approval in accordance with the Paperwork Reduction Act of 1995. The proposed information collection is published to obtain comments from the public and affected agencies. Comments are encouraged and will be accepted for “sixty days” until October 12, 2004. This process is conducted in accordance with 5 CFR 1320.10.

If you have comments especially on the estimated public burden or associated response time, suggestions, or need a copy of the proposed information collection instrument with instructions or additional information, please contact Venetia A. King, Criminal Information and Transition Unit, Program Development Section, Criminal Justice Information Services Division, Federal Bureau of Investigation, 1000 Custer Hollow Road, Clarksburg, WV 26306.

Written comments and suggestions from the public and affected agencies concerning the proposed collection of information are encouraged. Your comments should address one or more of the following four points:

• Evaluate whether the proposed collection of information is necessary for the proper performance of the functions of the agency, including whether the information will have practical utility;

• Evaluate the accuracy of the agencies estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Overview of this information collection:

(1) Type of Information Collection: Extension of a currently approved collection.

(2) Title of the Form/Collection: National Sex Offender Registry.

(3) Agency form number, if any, and the applicable component of the Department of Justice sponsoring the collection: Form Number: none. Federal Bureau of Investigation (FBI).

(4) Affected public who will be asked or required to respond, as well as a brief abstract: Primary: State, local, or tribal government. The National Sex Offender Registry data is collection from the 50 States, 5 Territories, and the District of Columbia. The registry was established by the FBI in accordance with Federal Law (42 U.S.C. 14072) in order to track the whereabouts and movements of persons who have been convicted of a criminal offense against a victim who is a minor; persons who have been convicted of a sexually violent offense; and persons who are sexually violent predators.

(5) An estimate of the total number of respondents and the amount of time estimated for an average respondent to respond: The estimated number of respondents is 56 government entities. The estimated time for the average respondent to respond: The collection of information from the sex offender is sponsored by the state government. The subsequent electronic transmission into the National Sex Offender Registry poses no additional burden on the state. The telecommunication network used for the transmission of NSOR data is an existing network, and the FBI assumes all costs.

(6) An estimate of the total public burden (in hours) associated with the collection: The estimated total annual burden hour associated with this collection is 1 to allow OMB approval.

FOR FURTHER INFORMATION CONTACT: Brenda E. Dyer, Clearance Officer, United States Department of Justice, Justice Management Division, Policy and Planning Staff, Patrick Henry Building, Suite 1600, 601 D Street, NW., Washington, DC 20530.

Dated: August 6, 2004.
Brenda E. Dyer,
Clearance Officer, Department of Justice.

[FR Doc. 04-18426 Filed 8-11-04; 8:45 am]

BILLING CODE 4410-02-P